ENVIRONMENTAL PROTECTION AGENCY

[FRL-6877-1]

Air Quality Criteria for Ozone and Related Photochemical Oxidants

AGENCY: Environmental Protection Agency.

ACTION: Notice; call for information.

SUMMARY: The National Center for Environmental Assessment, Office of Research and Development, of the U.S. Environmental Protection Agency (EPA) is undertaking to update and revise, where appropriate, the Air Quality Criteria for Ozone and Related Photochemical Oxidants (EPA-600/P-93-004aF-cF) published in July 1996.

Since completion of the 1996 ozone criteria document, the EPA has continued to collect scientific information on the effects of ground-level ozone on health and vegetation. A summary and evaluation of this and other selected literature that may be particularly relevant to a review of the National Ambient Air Quality Standards for ozone will be presented in the forthcoming revised criteria document.

As part of this continuing review, interested parties are invited to assist the EPA in developing and refining the scientific information base for updating the air quality criteria for ozone. While EPA has continued to follow the literature and gather appropriate studies since early 1996, the Agency is interested in additional new information, particularly concerning the effects expected from the presence of ground-level ozone in the ambient air on: humans and laboratory animals; vegetation, both in agroecosystems (crops) and in natural ecosystems; nonbiological materials; and global climate. EPA also seeks recent information in other areas of ozone research such as its chemistry and physics, sources and emissions, analytical methodology, transport and transformation in the environment, and ambient concentrations. To be considered for inclusion in the revised criteria document, submitted information should be published, accepted for publication, or have been presented at a public scientific meeting.

DATES: All communications and information must be submitted by December 1, 2000, and addressed to the Project Manager for Ozone and Related Photochemical Oxidants, National Center for Environmental Assessment (MD-52), U.S. Environmental Protection Agency, Research Triangle Park, NC 27711.

Dated: September 15, 2000.
William H. Farland,
Director, National Center for Environmental Assessment.

[FR Doc. 00-24676 Filed 9-26-00; 8:45 am]

BILLING CODE 6560-50-U